NATIONAL AERONAUTICS AND SPACE ADMINISTRATION

[Notice (18-078)]

Notice of Intent To Grant Partially Exclusive License

AGENCY: National Aeronautics and Space Administration.

ACTION: Notice of intent to grant partially exclusive license.

SUMMARY: NASA hereby gives notice of its intent to grant a partially exclusive license in the United States to practice the invention described and claimed in U.S. Patent Application Serial No. 62/555,416 entitled “Real-Time Six Degree of Freedom Shape Sensing Algorithm”, to Safety Technology Holding, Inc., having its principal place of business in Plymouth, MI. The fields of use may be limited to anthropomorphic dummies used in the automotive testing industry. NASA has not yet made a determination to grant the requested license and may deny the requested license even if no objections are submitted within the comment period.

DATES: The prospective partially exclusive term license may be granted unless NASA receives written objections, including evidence and argument no later than November 2, 2018 that establish that the grant of the license would not be consistent with the requirements regarding the licensing of federally owned inventions as set forth in the Bayh-Dole Act and implementing regulations. Competing applications completed and received by NASA no later than November 2, 2018 will also be treated as objections to the grant of the contemplated exclusive license. Objections submitted in response to this notice will not be made available to the public for inspection and, to the extent permitted by law, will not be released under the Freedom of Information Act.

ADDRESSES: Objections relating to the prospective license may be submitted to Mr. Mark Homer, Patent Counsel, Jet Propulsion Laboratory, 4800 Oak Grove Drive, M/S 180-800, Pasadena, CA 91109, (818) 354-7770.

FOR FURTHER INFORMATION CONTACT: Ms. Janeya Griffin, Technology Transfer Branch, Armstrong Flight Research Center, 4800 Lilly Drive M/S 1100 Edwards, California 93524, (661) 276-5743.

SUPPLEMENTARY INFORMATION: This notice of intent to grant an exclusive patent license is issued in accordance with 35 U.S.C. 209(e) and 37 CFR 404.7(a)(1)(i). The patent rights in these inventions have been assigned to the United States of America as represented by the Administrator of the National Aeronautics and Space Administration. The prospective partially exclusive license will comply with the requirements of 35 U.S.C. 209 and 37 CFR 404.7.

Information about other NASA inventions available for licensing can be found online at http://technology.nasa.gov.

Mark Dvorscak,
Agency Counsel for Intellectual Property.

[FR Doc. 2018-22669 Filed 10-17-18; 8:45 am]

BILLING CODE 7510-13-P